NATIONAL ARCHIVES AND RECORDS ADMINISTRATION

[NARA-2020-006]

Advisory Committee on the Records of Congress; Meeting

AGENCY: National Archives and Records Administration.

ACTION: Notice of meeting.

SUMMARY: We are announcing an upcoming meeting of the Advisory Committee on the Records of Congress. The committee advises NARA on the full range of programs, policies, and plans for the Center for Legislative Archives in NARA's Office of Legislative Archives, Presidential Libraries, and Museum Services (LPM).

DATES: The meeting will be on December 9, 2019, from 10:00 a.m. to 12:30 p.m.

ADDRESSES: National Archives and Records Administration; 700 Pennsylvania Ave. NW, Room 105; Washington, DC 20408.

FOR FURTHER INFORMATION CONTACT: The Center for Legislative Archives by phone at (202) 357-6802 or by email at sharon.shaver@nara.gov.

SUPPLEMENTARY INFORMATION: This meeting is open to the public in accordance with the Federal Advisory Committee Act (5 U.S.C. app 2) and implementing regulations.

Agenda

(1) Chair's Opening Remarks—Secretary of the U.S. Senate

(2) Recognition of Co-chair—Clerk of the U.S. House of Representatives

(3) Recognition of the Archivist of the United States

(4) Approval of the minutes of the last meeting

(5) Senate Archivist's report

(6) House Archivist's report

(7) Center for Legislative Archives update

(8) Other current issues and new business

Miranda J. Andreacchio,
Committee Management Officer.

[FR Doc. 2019-24487 Filed 11-8-19; 8:45 am]

BILLING CODE 7515-01-P